DEPARTMENT OF HEALTH AND HUMAN SERVICES

Substance Abuse and Mental Health Services Administration

Center for Substance Abuse Prevention; Notice

Pursuant to Pub. L. 92-463, notice is given of the meeting of the Substance Abuse and Mental Health Services Administration (SAMHSA) Drug Testing Advisory Board (DTAB) that was held on September 14 and 15, 2004, at the Residence Inn by Marriott, 7335 Wisconsin Avenue, Bethesda, Maryland 20814.

A summary of the meeting is as follows. The Board met in an open session on September 14 from 8:30 a.m. to 11:15 a.m. The open session included a Department of Health and Human Services drug testing program update, a presentation on the comments submitted on the proposed revisions to the “Mandatory Guidelines for Federal Workplace Drug Testing” published in the Federal Register on April 13, 2004 (69 FR 19673-19732), and a Department of Transportation drug testing program update.

The Board met in closed sessions on September 14 from 11:15 a.m. to 4:30 p.m. and on September 15 from 8:30 a.m. to noon to review and discuss the public comments submitted regarding the Revised Mandatory Guidelines for Federal Workplace Drug Testing Programs (69 FR 19644, April 13, 2004) and the Notice of Proposed Revisions to the Mandatory Guidelines for Federal Workplace Drug Testing Program (69 FR 19673, April 13, 2004). This meeting was conducted in closed sessions since discussing preliminary information on the Guidelines in open session would significantly frustrate the Department's ability to develop the Final Notice of Revisions to the Mandatory Guidelines for Federal Workplace Drug Testing Programs, which must include the policies and procedures that will assure accurate and reliable specimen validity testing as well as drug testing using alternative specimens and when using on-site drug tests.

A roster of the board members may be obtained from: Mrs. Giselle Hersh, Division of Workplace Programs, 1 Choke Cherry Road, Room 2-1035, Rockville, MD 20857, 240-276-2600 (voice). To ensure that all interested parties receive information presented at the DTAB meeting, the transcript of the open session will be available on the following Web site http://workplace.samhsa.gov as soon as possible after the meeting.

Dated: September 20, 2004.
Toian Vaughn, Committee Management Officer, Substance Abuse and Mental Health Services Administration.

[FR Doc. 04-21568 Filed 9-24-04; 8:45 am]

BILLING CODE 4162-20-P